DEPARTMENT OF TRANSPORTATION

Federal Aviation Administration

14 CFR Part 39

[Docket No. FAA-2019-0560; Product Identifier 2018-CE-056-AD]

RIN 2120-AA64

Airworthiness Directives; Glasflugel Gliders

AGENCY: Federal Aviation Administration (FAA), Department of Transportation (DOT).

ACTION: Notice of proposed rulemaking (NPRM).

SUMMARY: We propose to supersede Airworthiness Directive (AD) 2018-21-04 for Glasflugel Models Club Libelle 205, H 301 “Libelle,” H 301B “Libelle,” Kestrel, Mosquito, Standard “Libelle,” and Standard Libelle-201B gliders. This proposed AD results from mandatory continuing airworthiness information (MCAI) originated by an aviation authority of another country to identify and correct an unsafe condition on an aviation product. The MCAI describes the unsafe condition as jamming between the double two-ring end of the towing cable and the deflector angles of the center of gravity (C.G.) release mechanism. We are issuing this proposed AD to require actions to address the unsafe condition on these products.

DATES: We must receive comments on this proposed AD by September 19, 2019.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact Glasfaser Flugzeug-Service GmbH, Hansjorg Streifeneder, Hofener Weg 61, 72582 Grabenstetten, Germany; phone: +49 (0)7382/1032; fax: +49 (0)7382/1629; email: info@streifly.de; internet: http://www.streifly.de/kontakt-e.htm. You may review copies of the referenced service information at the FAA, Policy and Innovation Division, 901 Locust, Kansas City, Missouri 64106. For information on the availability of this material at the FAA, call (816) 329-4148.

Examining the AD Docket

You may examine the AD docket on the internet at http://www.regulations.gov by searching for and locating Docket No. FAA-2019-0560; or in person at Docket Operations between 9 a.m. and 5 p.m., Monday through Friday, except Federal holidays. The AD docket contains this proposed AD, the regulatory evaluation, any comments received, and other information. The street address for Docket Operations (telephone (800) 647-5527) is in the ADDRESSES section. Comments will be available in the AD docket shortly after receipt.

FOR FURTHER INFORMATION CONTACT: Jim Rutherford, Aerospace Engineer, FAA, Policy and Innovation Divsion, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2019-0560; Product Identifier 2018-CE-056-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

We issued a Final rule; request for comment to add AD 2018-21-04, Amendment 39-19462 (83 FR 53573, October 24, 2018) (“AD 2018-21-04”) to address an unsafe condition on Glasflugel Models Club Libelle 205, H 301 “Libelle,” H 301B “Libelle,” Kestrel, Mosquito, Standard “Libelle,” and Standard Libelle-201B gliders. AD 2018-21-04 requires inspecting the distance between the deflector-angles of the C.G. release mechanism and revising the operations section of the sailplane flight manual (SFM) before the next winch launch.

AD 2018-21-04 was based on MCAI originated by an aviation authority of another country. The European Aviation Safety Agency (EASA), which is the Technical Agent for the Member States of the European Community, has issued Emergency AD No. 2018-0143-E (referred to after this as “the MCAI”), to correct an unsafe condition for the specified products. The MCAI states:

Jamming between the double two ring end of the towing cable and the deflector angles of the C.G. release mechanism was reported. Subsequent investigation identified incorrect geometry of the deflector angles of the affected part as likely cause of the jamming.

This condition, if not detected and corrected, could lead to failure to disconnect the towing cable, possibly resulting in reduced or loss of control of the sailplane.

To address this potential unsafe condition, Glasfaser Flugzeug-Service GmbH issued the TN [Technical Note] to provide inspection instructions and corrective action.

For the reasons described above, this [EASA] AD requires repetitive inspections of the affected part, and, depending on findings, accomplishment of applicable corrective action(s). This [EASA] AD also requires amendment of the sailplane Aircraft Flight Manual (AFM).

We issued AD 2018-21-04 as an interim action to address the immediate need for the initial inspection of the distance between the deflector-angles of the C.G. release mechanism, any necessary corrective action, and the revision of the flying operations section of the SFM. We are proposing this superseding AD to address the long-term need to repeat the inspection of the C.G. release mechanism for the distance between the deflector-angles at intervals not to exceed 12 months. Because this proposed requirement is for a longer interval, we are providing the public an opportunity to comment. You may examine the MCAI on the internet at http://www.regulations.gov by searching for and locating Docket No. FAA-2019-0560.

Related Service Information Under 1 CFR Part 51

We reviewed Glasfaser-Flugzeug-Service GmbH Technical Note No. 5-2018, dated June 25, 2018, which is incorporated by reference in AD 2018-21-04. The service information describes procedures for measuring the distance between the deflector-angles at the C.G. release and modifying the deflector-angles if necessary. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 177 products of U.S. registry. We also estimate that it would take about 1 work-hour per product to comply with the inspection requirements and revision of the flying operations section of the sailplane flight manual of this proposed AD. The average labor rate is $85 per work-hour.

Based on these figures, we estimate the cost of the AD on U.S. operators to be $15,045, or $85 per product, per inspection cycle.

We estimate that any modification of the deflector-angles that may be necessary as a result of the inspection would take about 4 work-hours and require parts costing $100, for a cost of $440 per product. We have no way of determining the number of products that may need these actions.

This proposed AD retains the actions of AD 2018-21-04. The estimated costs of initial inspection, any necessary modification, and revision of the flying operations section of the SFM remain the same as AD 2018-21-04 and do not impose an additional burden beyond the cost of repeating the inspection every 12 months.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-21-04, Amendment 39-19462 (83 FR 53573; October 24, 2018), and adding the following new AD:

Glasflugel: Docket No. FAA-2019-0560; Product Identifier 2018-CE-056-AD.

(a) Comments Due Date

We must receive comments by September 19, 2019.

(b) Affected ADs

This AD replaces AD 2018-21-04, Amendment 39-19462 (83 FR 53573, October 24, 2018) (“AD 2018-21-04”).

(c) Applicability

This AD applies to Glasflugel Models Club Libelle 205, H 301 “Libelle,” H 301B “Libelle,” Kestrel, Mosquito, Standard “Libelle,” and Standard Libelle-201B gliders, certificated in any category, with a center of gravity (C.G.) tow release installed.

(d) Subject

Air Transport Association of America (ATA) Code 25: Equipment/Furnishing.

(e) Reason

This proposed AD was prompted by mandatory continuing airworthiness information (MCAI) issued by the aviation authority of another country to identify and correct an unsafe condition on an aviation product. The MCAI describes the unsafe condition as jamming between the double two-ring end of the towing cable and the deflector angles of the C.G. release mechanism. We are issuing this AD to prevent failure of the towing cable to disconnect, which could result in reduced or loss of control of the glider or the cable breaking and causing injury to people on the ground.

(f) Actions and Compliance

Unless already done, do the following actions in paragraphs (f)(1) through (3) of this AD.

(1) Before the next winch launch after November 13, 2018 (the effective date of AD 2018-21-04) and thereafter at intervals not to exceed 12 months, inspect the distance between the deflector-angles by following paragraph 1 in the Actions section of Glasfaser-Flugzeug-Service GmbH Technical Note No. 5-2018, dated June 25, 2018.

(2) If the distance is less than 36 mm during any inspection required in paragraph (f)(1) of this AD, before the next winch launch, do the corrective action in paragraph 2 in the Actions section of Glasfaser-Flugzeug-Service GmbH Technical Note No. 5-2018, dated June 25, 2018.

(3) Before the next winch launch after November 13, 2018 (the effective date of AD 2018-21-04), revise the flying operations section of the sailplane flight manual by inserting the text in paragraph (f)(3)(i) of this AD into the winch tow section.

(i) Winch launching is permissible only with a connecting ring pair that conforms to aeronautical standard LN 65091.

(ii) This action may be done by the owner/operator (pilot) holding at least a private pilot certificate and must be entered into the aircraft records showing compliance with this AD by following 14 CFR 43.9 (a)(1) through (4) and 14 CFR 91.417(a)(2)(v). The record must be maintained as required by 14 CFR 91.417, 121.380, or 135.439.

(g) Alternative Methods of Compliance (AMOCs)

The Manager, Standards Office, FAA, has the authority to approve AMOCs for this AD, if requested using the procedures found in 14 CFR 39.19. Send information to ATTN: Jim Rutherford, Aerospace Engineer, FAA, Policy and Innovation Divsion, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(h) Related Information

Refer to MCAI EASA AD No. 2018-0143-E, dated July 6, 2018, for related information. You may examine the MCAI on the internet at http://www.regulations.gov by searching for and locating Docket No. FAA-2019-0560. For service information related to this AD, contact Glasfaser Flugzeug-Service GmbH, Hansjorg Streifeneder, Hofener Weg 61, 72582 Grabenstetten, Germany; phone: +49 (0)7382/1032; fax: +49 (0)7382/1629; email: info@streifly.de; internet: http://www.streifly.de/kontakt-e.htm. You may review copies of the referenced service information at the FAA, Policy and Innovation Division, 901 Locust, Kansas City, Missouri 64106. For information on the availability of this material at the FAA, call (816) 329-4148.

Issued in Kansas City, Missouri, on July 19, 2019.
Melvin J. Johnson,
Aircraft Certification Service, Deputy Director, Policy and Innovation Division, AIR-601.

[FR Doc. 2019-16570 Filed 8-2-19; 8:45 am]

BILLING CODE 4910-13-P